DEPARTMENT OF HEALTH AND HUMAN SERVICES

Announcement of Third Meeting of the Secretary's Advisory Committee on National Health Promotion and Disease Prevention Objectives for 2020

AGENCY: Department of Health and Human Services, Office of the Secretary, Office of Public Health and Science, Office of Disease Prevention and Health Promotion.

ACTION: Notice of meeting.

Authority: 42 U.S.C. 217a, Section 222 of the Public Health Service Act, as amended. The Committee is governed by the provision of Public Law 92-463, as amended (5 U.S.C. Appendix 2), which sets forth standards for the formation and use of advisory committees.

SUMMARY: The U.S. Department of Health and Human Services (HHS) announces the third meeting of the Secretary's Advisory Committee on National Health Promotion and Disease Prevention Objectives for 2020. All Committee meetings are open to the public. The Committee will review the nation's health promotion and disease prevention objectives and efforts to develop goals and objectives to improve the health status and reduce health risks for Americans by the year 2020. The Committee will provide to the Secretary of Health and Human Services advice and consultation to facilitate the process for developing and implementing the next iteration of national health promotion and disease prevention goals and objectives and provide advice for initiatives to occur during the initial implementation phase of the goals and objectives. HHS will use the advice that is provided to develop recommendations to form the national health promotion and disease prevention objectives for 2020 and the process for implementing the objectives. The intent is to develop and launch objectives designed to improve the health status and reduce health risks for Americans by the year 2020.

DATES: The Committee will meet on Thursday, June 5, 2008 from 9 a.m. until 5:30 p.m., and Friday, June 6, 2008 from 9 a.m. until 4:30 p.m.

ADDRESSES: The meeting will be held at the Hyatt Regency Crystal City at Reagan National Airport, located at 2799 Jefferson Davis Highway, Arlington, Virginia 22202.

FOR FURTHER INFORMATION CONTACT: Carter Blakey, Designated Federal Officer, Secretary's Advisory Committee on National Health Promotion and Disease Prevention Objectives for 2020, U.S. Department of Health and Human Services, Office of Public Health and Science, Office of Disease Prevention and Health Promotion, 1101 Wootton Parkway, Room LL-100, Rockville, MD 20852, (240) 453-8254 (telephone), (240) 453-8281 (fax). Additional information is available on the Internet at http://www.healthypeople.gov. Registration questions may be directed to Hilary Scherer at HP2020@norc.org (e-mail), (301) 634-9374 (phone), or (301) 634-9301 (fax).

SUPPLEMENTARY INFORMATION: The names of the 13 members of the Secretary's Advisory Committee on National Health Promotion and Disease Prevention Objectives for 2020 are available at http://www.healthypeople.gov.

Purpose of Meeting: The Committee will consider the work of its various subcommittees, hear presentations on select topics, and deliberate next steps. The Committee will also hear oral comments from the public to help inform them as they prepare their recommendations to the Secretary. Every 10 years, through the Healthy People initiative, HHS leverages scientific insights and lessons from the past decade, along with the new knowledge of current data, trends, and innovations to develop the next iteration of national health promotion and disease prevention objectives. Healthy People provides science-based, 10-year national objectives for promoting health and preventing disease. Healthy People 2020 will reflect assessments of major risks to health and wellness, changing public health priorities, and emerging technologies related to our nation's health preparedness and prevention.

Public Participation at Meeting: Members of the public are invited to observe the Committee meeting. A portion of the meeting agenda will be allocated for committee members to hear public comments. All individuals wishing to observe and/or make comments must pre-register at http://www.healthypeople.gov. Due to time constraints, a limited number of scheduled time slots for public comments will be available on a first-come-first-served basis through pre-registration. Comments will also be limited to 1-2 minutes per individual. Attendees that do not pre-register to make comments cannot be guaranteed an opportunity to have his or her comments heard during the meeting. Individuals are encouraged to submit their comments in writing in advance of the meeting through the pre-registration process. Written comments are also welcome throughout the development process of the national health promotion and disease prevention objectives for 2020. They can be submitted through the Healthy People Web site at: http://www.healthypeople.gov/hp2020/comments/ or they can be e-mailed to HP2020@hhs.gov.

Registrations must be completed by 5:30 p.m. EST on Monday, June 2, 2008. Space for the meeting is limited. Registrations will be accepted until maximum room capacity is reached. A waiting list will be maintained should registrations exceed room capacity. Individuals on the waiting list will be contacted as additional space for the meeting becomes available. Individuals who plan to attend and need special assistance, such as sign language interpretation or other reasonable accommodations, should notify the designated contact person.

Dated: May 13, 2008.
Penelope Slade Royall,
RADM, USPHS, Deputy Assistant Secretary for Health (Disease Prevention and Health Promotion), Office of Disease Prevention and Health Promotion.

[FR Doc. E8-11071 Filed 5-16-08; 8:45 am]

BILLING CODE 4150-32-P